DEPARTMENT OF COMMERCE

International Trade Administration

Quarterly Update to Annual Listing of Foreign Government Subsidies on Articles of Cheese Subject to an In-Quota Rate of Duty

AGENCY: Enforcement and Compliance, International Trade Administration, Department of Commerce.

DATES: Applicable May 4, 2020.

FOR FURTHER INFORMATION CONTACT: Stephanie Moore, AD/CVD Operations, Office III, Enforcement and Compliance, International Trade Administration, U.S. Department of Commerce, 1401 Constitution Ave. NW, Washington, DC 20230, telephone: (202) 482-3692.

SUPPLEMENTARY INFORMATION: On February 18, 2020, the Department of Commerce (Commerce), pursuant to section 702(h) of the Trade Agreements Act of 1979 (as amended) (the Act), published the quarterly update to the annual listing of foreign government subsidies on articles of cheese subject to an in-quota rate of duty covering the period July 1, 2019 through September 30, 2019.¹ In the Third Quarter 2019 Update, we requested that any party that has information on foreign government subsidy programs that benefit articles of cheese subject to an in-quote rate of duty submit such information to Commerce.² We received no comments, information or requests for consultation from any party.

¹ See Quarterly Update to Annual Listing of Foreign Government Subsidies on Articles of Cheese Subject to an In-Quota Rate of Duty, 85 FR 8827 (February 18, 2020) (Third Quarter 2019 Update).

² Id.

Pursuant to section 702(h) of the Act, we hereby provide Commerce's update of subsidies on articles of cheese that were imported during the period October 1, 2019 through December 31, 2019. The appendix to this notice lists the country, the subsidy program or programs, and the gross and net amounts of each subsidy for which information is currently available.

Commerce will incorporate additional programs which are found to constitute subsidies, and additional information on the subsidy programs listed, as the information is developed. Commerce encourages any person having information on foreign government subsidy programs which benefit articles of cheese subject to an in-quota rate of duty to submit such information in writing to the Assistant Secretary for Enforcement and Compliance, U.S. Department of Commerce, 1401 Constitution Ave. NW, Washington, DC 20230.

This determination and notice are in accordance with section 702(a) of the Act.

Dated: April 27, 2020.
Jeffrey I. Kessler,
Assistant Secretary for Enforcement and Compliance.

Appendix

³ Defined in 19 U.S.C. 1677(5).

⁴ Defined in 19 U.S.C. 1677(6).

⁵ The 28 member states of the European Union during the 4th quarter of 2019 were: Austria, Belgium, Bulgaria, Croatia, Cyprus, Czech Republic, Denmark, Estonia, Finland, France, Germany, Greece, Hungary, Ireland, Italy, Latvia, Lithuania, Luxembourg, Malta, Netherlands, Poland, Portugal, Romania, Slovakia, Slovenia, Spain, Sweden, and the United Kingdom.

Subsidy Programs on Cheese Subject to an In-Quota Rate of Duty
Country | Program(s) | Gross ³ subsidy ($/lb) | Net ⁴ subsidy ($/lb)
28 European Union Member States ⁵ | European Union Restitution Payments | 0.00 | 0.00
Canada | Export Assistance on Certain Types of Cheese | 0.46 | 0.46
Norway | Indirect (Milk) Subsidy | 0.00 | 0.00
| Consumer Subsidy | 0.00 | 0.00
Total |  | 0.00 | 0.00
Switzerland | Deficiency Payments | 0.00 | 0.00

[FR Doc. 2020-09406 Filed 5-1-20; 8:45 am]

BILLING CODE 3510-DS-P